DEPARTMENT OF HEALTH AND HUMAN SERVICES

National Institutes of Health

Statement of Organization, Functions, and Delegations of Authority

Part N, National Institutes of Health, of the Statement of Organization, Functions, and Delegations of Authority for the Department of Health and Human Services (40 FR 22859, May 27, 1975, as amended most recently of 65 FR 20477, April 17, 2000, and redesignated from Part HN as Part N at 60 FR 56606, November 9, 1995), is amended as set forth below to reflect the retitling of the Office of Bioengineering and Bioimaging in the Office of the Director, National Institutes of Health, as the Office of Bioengineering, Bioimaging, and Bioinformatics.

Section N-B, Organization and Functions, is amended as follows: Under the heading Office of Bioengineering, Bioimaging (NAC, formerly HNAC), replace the title with: Office of Bioengineering, Bioimaging, and Bioinformatics (NAC, formerly HNAC).

Dated: May 25, 2000.
Ruth Kirschstein,
Acting Director, National Institutes of Health.

[FR Doc. 00-15762 Filed 6-21-00; 8:45 am]

BILLING CODE 4140-01-M